DEPARTMENT OF JUSTICE

Notice of Lodging of Agreed Modification to Consent Decree Under the Clean Water Act

On October 30, 2018, the Department of Justice lodged an Agreed Modification to Consent Decree with the United States District Court for the Central District of Illinois in the lawsuit entitled United States v. City of Rock Island, Illinois, Civil Action No. 4:00-CV-04076-JBM. The original Consent Decree in this case was approved and entered by the Court in 2003 (the “2003 Consent Decree”).

The 2003 Consent Decree resolved alleged violations of the Clean Water Act associated with untreated discharges from the City of Rock Island's municipal wastewater treatment and sewer system. Under the 2003 Consent Decree, Rock Island committed to make an array of engineering improvements to its wastewater treatment plant and sewer system, with input and oversight from the U.S. Environmental Protection Agency (“EPA”). The Agreed Modification to Consent Decree would memorialize agreed deadline extensions for two sewer system improvement projects addressing wastewater discharge points designated as Outfall 006 and Outfall 007. The Outfall 006 project was slated for completion in January 2018, but the parties to the 2003 Consent Decree agreed to extend that deadline until August 2018. The Outfall 007 project was originally scheduled for construction completion in April 2016 and operational startup in October 2016, but the parties agreed to extend those deadlines until June 2018, and August 2018, respectively. Rock Island met the extended deadlines for both projects. EPA has determined that the delays at issue were due to circumstances beyond Rock Island's control, as described in detail in the Agreed Modification.

The publication of this notice is intended mainly to inform the public of these agreed deadline extensions, but it also opens a period for public comment on the Agreed Modification. Comments should be addressed to the Assistant Attorney General, Environment and Natural Resources Division, and should refer to United States v. City of Rock Island, Illinois, D.J. Ref. No. 90-5-1-1-06489. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Agreed Modification to Consent Decree may be examined and downloaded at this Justice Department website: https://www.justice.gov/enrd/consent-decrees. We will provide a paper copy of the Agreed Modification upon written request and payment of reproduction costs. Please mail your request and payment to: Consent Decree Library, U.S. DOJ—ENRD, P.O. Box 7611, Washington, DC 20044-7611.

Please enclose a check or money order for $4.75 (25 cents per page reproduction cost) payable to the United States Treasury.

Randall Stone,
Acting Assistant Section Chief, Environmental Enforcement Section, Environment and Natural Resources Division.

[FR Doc. 2018-24054 Filed 11-2-18; 8:45 am]

BILLING CODE 4410-15-P